FEDERAL COMMUNICATIONS COMMISSION

47 CFR Part 64

[CG Docket No. 03-123; DA 08-478]

Consumer and Governmental Affairs Bureau Clarifies the Eligibility Requirement for Compensation From the Interstate Telecommunications Relay Service (TRS) Fund for Providers of Internet Protocol Captioned Telephone Service

AGENCY: Federal Communications Commission.

ACTION: Clarification.

SUMMARY: In this document, the Consumer and Governmental Affairs Bureau (Bureau) clarifies the eligibility requirement for compensation from the TRS Fund (Fund) for providers of Internet Protocol (IP) captioned telephone service (IP CTS). The Bureau also clarifies that an IP CTS provider seeking compensation from the Fund must notify the Interstate TRS Fund administrator 30 days prior to the date the provider submits minutes for payment.

ADDRESSES: Federal Communications Commission, 445 12th Street, SW., Washington, DC 20554.

FOR FURTHER INFORMATION CONTACT: Thomas Chandler, Consumer and Governmental Affairs Bureau, Disability Rights Office at (202) 418-1475 (voice), (202) 418-0597 (TTY), or e-mail at Thomas.Chandler@fcc.gov.

SUPPLEMENTARY INFORMATION: This is a summary of the Bureau's public notice DA 08-478, released February 28, 2008 in CG Docket No. 03-123. The full text of DA 08-478 and copies of any subsequently filed documents in this matter will be available for public inspection and copying during regular business hours at the FCC Reference Information Center, Portals II, 445 12th Street, SW., Room CY-A257, Washington, DC 20554. DA 08-478 and copies of subsequently filed documents in this matter also may be purchased from the Commission's duplicating contractor at Portals II, 445 12th Street, SW., Room CY-B402, Washington, DC 20554. Customers may contact the Commission's duplicating contractor at its Web site http://www.bcpiweb.com or by calling 1-800-378-3160. To request materials in accessible formats for people with disabilities (Braille, large print, electronic files, audio format), send an e-mail to fcc504@fcc.gov or call the Consumer and Governmental Affairs Bureau at (202) 418-0530 (voice) or (202) 418-0432 (TTY). DA 08-478 also can be downloaded in Word or Portable Document Format (PDF) at: http://www.fcc.gov/cgb/dro/trs.html#orders.

Synopsis

On January 11, 2007, the Commission released Telecommunications Relay Services and Speech-to-Speech Services for Individuals with Hearing and Speech Disabilities; Internet-based Captioned Telephone Service, CG Docket No. 03-123, Declaratory Ruling, 22 FCC Rcd 379 (IP CTS Declaratory Ruling), published at 72 FR 6960, February 14, 2007. In the IP CTS Declaratory Ruling, the Commission recognized IP CTS as a form of TRS eligible for compensation from the Fund. Because the Bureau has received questions concerning the manner in which IP CTS providers may be eligible for compensation from the Fund, the Bureau issues this clarification.

The Commission's eligibility rules set forth in 47 CFR 64.604(c)(5)(iii)(F) provide that TRS providers eligible for receiving payments from the Interstate TRS Fund must be:

(1) TRS facilities operated under contract with and/or by certified state TRS programs pursuant to section 64.605 of the Commission's rules; or

(2) TRS facilities owned by or operated under contract with a common carrier providing interstate services operated pursuant to section 64.604 of the Commission's rules; or

(3) Interstate common carriers offering TRS pursuant to section 64.604 of the Commission's rules; or

(4) Video Relay Service (VRS)[, * * *] Internet Protocol (IP) Relay * * *[, and IP CTS] providers certified by the Commission pursuant to section 64.605 of the Commission's rules.

The fourth eligibility criterion—certification by the Commission—was adopted in Telecommunications Relay Services for Individuals with Hearing and Speech Disabilities, CG Docket No. 03-123, Report and Order and Order on Reconsideration, 20 FCC Rcd 20577 (2005) (2005 IP Relay/VRS Certification Order), published at 71 FR 2942, January 18, 2006. Prior to that time, there was no federal certification process for relay providers seeking compensation from the Fund; the regulations provided only for the certification of state TRS programs. See generally Telecommunications Relay Services and Speech-to-Speech Services for Individuals with Hearing and Speech Disabilities, CC Docket Nos. 90-571 and 98-67, CG Docket No. 03-123, Report and Order, Order on Reconsideration, and Further Notice of Proposed Rulemaking, (2004 TRS Report and Order), 19 FCC Rcd 12475, 12516, paragraph 99 (2004), published at 69 FR 53346 and 69 FR 53382, September 1, 2004.

The Commission has interpreted the third eligibility criterion—an interstate common carrier offering TRS pursuant to section 64.604—to apply only to common carriers “offering telephone voice transmission services that are obligated to provide TRS in a state that does not have a certified TRS program.” 2004 TRS Report and Order, 19 FCC Rcd at 12517, paragraph 103, note 304. As the Commission explained in the 2005 IP Relay/VRS Certification Order:

The third eligibility category—“Interstate common carriers offering TRS pursuant to § 64.604”—has been the means by which some entities that are not voice telephone service providers have sought to offer VRS, and not the other forms of TRS, and be compensated for doing so from the Interstate TRS Fund. The Commission previously construed [in the 2004 TRS Report and Order] the third eligibility prong, however, as applying to common carriers obligated to provide TRS in a state that does not have a certified program. Because we now adopt a fourth eligibility criterion, which will allow common carriers seeking to offer VRS or IP Relay and receive compensation to do so without being part of a certified state program or contracting with an entity that is, it is not necessary at this time to revisit this construction of the third eligibility category. 2005 IP Relay/VRS Certification Order, 20 FCC Rcd at 20587, paragraph 18.

Against this background, in the IP CTS Declaratory Ruling, the Commission expressly addressed the manner in which IP CTS providers may be eligible for compensation from the Fund. The Commission concluded that “an entity desiring to provide IP captioned telephone service * * * may choose to seek certification from the Commission under [§ 64.605],” and that therefore, “[a]s a general matter, potential IP CTS providers may become eligible for compensation from the Fund by being accepted into a certified state TRS program or subcontracting with an entity that is part of a certified state program, or by seeking Commission certification.” IP CTS Declaratory Ruling, 22 FCC Rcd at 391, paragraph 28. The Commission made clear that “[p]resent eligibility to receive compensation from the Fund for the provision of other forms of TRS (including captioned telephone service) does not confer eligibility with regard to the provision of the IP CTS recognized in this Declaratory Ruling.”

The Bureau therefore clarifies that, to establish eligibility for compensation from the Fund, IP CTS providers must either: (1) Seek certification from the Commission pursuant to 47 CFR 64.605; (2) become part of a certified state program; or (3) subcontract with an entity that is part of a certified state program. Only where an IP CTS provider is a common carrier offering telephone voice transmission services and obligated to provide IP CTS in a state that does not have a certified TRS program would it be able to establish eligibility for compensation from the Fund via section 64.604(c)(5)(iii)(F)(3) of the Commission's rules. Further, the fact that a provider is eligible to receive compensation from the Fund for the provision of other forms of TRS is not sufficient grounds, on its own, to establish a provider's eligibility to receive compensation from the Fund for the provision of IP CTS. The intent of the more specific eligibility rules for IP CTS providers set forth in the IP CTS Declaratory Ruling is to ensure that either the Commission or a state has oversight responsibility for each provider.

The Bureau also clarifies that IP CTS providers seeking compensation from the Fund must notify the Fund administrator (currently, the National Exchange Carrier Association (NECA)) 30 days prior to the date they submit minutes to the Fund administrator for payment. 47 CFR 64.604(c)(5)(iii)(G). This requirement applies even if the provider presently offers other forms of TRS and is compensated from the Fund. Because the 2007 IP CTS Declaratory Ruling specifically states that merely being a relay provider of another service is not enough to confer eligibility, it follows that for IP CTS providers to become eligible for compensation, they must both seek Commission or state certification (or be a subcontractor), and must notify NECA 30 days prior to submitting minutes for payment.

Federal Communications Commission.
Nicole McGinnis,
Deputy Chief, Consumer and Governmental Affairs Bureau.

[FR Doc. E8-9522 Filed 4-29-08; 8:45 am]

BILLING CODE 6712-01-P